DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: Manufacturing Extension Partnership (MEP) Expanded Services Center Information and Reporting System.

OMB Control Number: None.

Form Number(s): None.

Type of Request: Regular submission.

Number of Respondents: 60.

Average Hours per Response: 80.

Burden Hours: 4,800.

Needs and Uses: Sponsored by the National institute of Standards and Technology (NIST), the Manufacturing Extension Partnership (MEP) is a national network of locally-based manufacturing extension Competitive Award Recipients working with small manufacturers to assist in improving their productivity, profitability, and enhance their economic competitiveness. This collection will provide information regarding MEP Competitive Award Recipient performance of the delivery of technology and business solutions to U.S.-based manufacturers.

The information will also assist in determining the performance of the MEP Competitive Award Recipients at both local and national levels, will provide information critical to monitoring and reporting on MEP programmatic performance, and will assist management in policy decisions. Responses to the collection of information are mandatory per the regulations governing the operation of the MEP Program (15 CFR parts 290, 291, 292, and H.R. 1274—section 2). The information will include the recipient inputs and activities including services delivered, clients served, Competitive Award Recipient staff, quarterly expenses and revenues, partners and affiliates, strategic plan, operating plans, and client success stories.

Affected Public: NIST MEP Competitive Award Recipients.

Frequency: Quarterly.

Respondent's Obligation: Mandatory.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OMB Desk Officer, Jasmeet Seehra, FAX Number (202) 395-5167, or via Jasmeet_K._Seehra@omb.eop.gov.

Dated: November 22, 2010.
Gwellnar Banks,
Management Analyst, Office of the Chief Information Officer.

[FR Doc. 2010-29723 Filed 11-24-10; 8:45 am]

BILLING CODE 3510-13-P